DEPARTMENT OF AGRICULTURE

Rural Utilities Service

7 CFR Part 1717

RIN 0572-AC40

Streamlining Electric Program Procedures

AGENCY: Rural Utilities Service, USDA.

ACTION: Correcting amendment.

SUMMARY: The Rural Utilities Service (RUS or Agency) published a final rule in the Federal Register on July 9, 2019, entitled “Streamlining Electric Program Procedures,” to make revisions to several regulations to streamline its procedures for Electric Program borrowers, including its loan application requirements, approval of work plans and load forecasts, use of approved contracts and system design procedures. The Agency found an error in this publication, after the published rule became effective. This document will correct the final regulation.

DATES: Effective on July 31, 2019.

FOR FURTHER INFORMATION CONTACT: Michele Brooks, Team Lead, Rural Development Innovation Center—Regulatory Team, USDA, 1400 Independence Avenue SW, Stop 1522, Room 4266, South Building, Washington, DC 20250-1522. Telephone: (202) 690-1078. Email michele.brooks@wdc.usda.gov.

SUPPLEMENTARY INFORMATION:

Need for Correction

On July 9, 2019 (84 FR 32607), the Rural Utilities Services (RUS) issued a final rule entitled “Streamlining Electric Program Procedures,” to revise several regulations to streamline its procedures for Electric Program borrowers, including its loan application requirements, approval of work plans and load forecasts, use of approved contracts and system design procedures.

Inadvertently, revisions were made to the entire paragraph (c) of section 1717.856, which resulted in eliminating paragraphs (c)(1) through (4) instead of revising the introductory text only of paragraph (c). This document corrects the final regulation to add those portions that were removed by mistake.

List of Subject in 7 CFR Part 1717

Administrative practice and procedure, Electric power, Electric power rates, Electric Utilities, Intergovernmental relations, Investments, Loan program-energy, Reporting and recordkeeping requirements, Rural areas.

PART 1717—POST-LOAN POLICIES AND PROCEDURES COMMON TO INSURED AND GUARANTEED ELECTRIC LOANS

1. The authority citation for part 1717 continues to read as follows:

Authority: 7 U.S.C. 901 et seq., 1921 et seq., 6941 et seq.

Subpart R—Lien Accommodations and Subordinations for 100 Percent Private Financing

2. Amend § 1717.856 by adding paragraph (c)(1) through (c)(4), to read as follows:

§ 1717.856 Application contents: Normal review—100 percent private financing.

* * * * *

(c) * * *

(1) The borrower is current on all of its financial obligations and is in compliance with all requirements of its mortgage and loan agreement with RUS;

(2) In RUS's judgment, granting a lien accommodation or subordination for the proposed loan will not adversely affect the repayment and security of outstanding debt of the borrower owed to or guaranteed by RUS;

(3) The borrower has achieved the TIER and DSC and any other coverage ratios required by its mortgage or loan contract in each of the two most recent calendar years; and

(4) The amount of the proposed loan does not exceed the lesser of $10 million or 10 percent of the borrower's current net utility plant;

* * * * *

Chad Rupe,
Administrator, Rural Utilities Service.

[FR Doc. 2019-15859 Filed 7-30-19; 8:45 am]

BILLING CODE 3410-15-P